NATIONAL COUNCIL ON DISABILITY

Sunshine Act Meetings

Type: Quarterly meeting.

Dates and Times: October 5-6, 2005, 9 a.m.-5 p.m.

Location: Crowne Plaza San Francisco Union Square Hotel, 480 Sutter Street, San Francisco, CA.

Status: This meeting will be open to the public.

Agenda: Reports from the Chairperson and the Executive Director, Team Reports, Livable Communities Update, Unfinished Business, New Business, Announcements, Adjournment.

Sunshine Act Meeting Contact: Mark S. Quigley, Director of Communications, NCD, 1331 F Street, NW., Suite 850, Washington, DC 20004; 202-272-2004 (voice), 202-272-2074 (TTY), 202-272-2022 (fax), mquigley@ncd.gov (e-mail)

Agency Mission: NCD is an independent Federal agency making recommendations to the President and Congress to enhance the quality of life for all Americans with disabilities and their families. NCD is composed of 15 members appointed by the President and confirmed by the U.S. Senate.

Accommodations: Those needing reasonable accommodations should notify NCD at least two weeks before these meetings.

Language Translation: In accordance with E.O. 13166, Improving Access to Services for Persons with Limited English Proficiency, those people with disabilities who are limited English proficient and seek translation services for these meetings should notify NCD at least two weeks before these meetings.

Multiple Chemical Sensitivity/Environmental Illness: People with multiple chemical sensitivity/environmental illness must reduce their exposure to volatile chemical substances to attend these meetings. To reduce such exposure, NCD requests that attendees not wear perfumes or scented products at these meetings. Smoking is prohibited in meeting rooms and surrounding areas.

Dated: August 2, 2005.
Ethel D. Briggs,
Executive Director.

[FR Doc. 05-16030 Filed 8-9-05; 12:09 pm]

BILLING CODE 6820-MA-P